DEPARTMENT OF TRANSPORTATION

Coast Guard

33 CFR Part 165

[CGD07-01-048]

RIN 2115-AA97

Security Zone; St. Croix, U.S. Virgin Islands

AGENCY: Coast Guard, DOT.

ACTION: Final rule.

SUMMARY: The Coast Guard is removing the security zones around commercial tank and freight vessels moored at the HOVENSA facility in St. Croix, U.S. Virgin Islands. The zones were created for national security reasons and to protect the public and port of Limetree Bay (HOVENSA) from subversive acts. The zone is no longer needed because the HOVENSA facility has upgraded security measures, installed controlled access points and implemented internal security procedures for permitting crewmembers to leave vessels moored at their facility.

DATES: Temporary § 165.T07-002 is removed effective May 9, 2002.

ADDRESSES: Documents mentioned in this preamble as being available in the docket are part of docket [CGD07-01-048] and are available for inspection or copying at Marine Safety Office San Juan, San Martin Street #90, RODVAl Building, Suite 400, Guaynabo, PR 00968 between 7 a.m. and 3 p.m., Monday through Friday, except Federal holidays.

FOR FURTHER INFORMATION CONTACT: Lieutenant Commander Robert Lefevers, U.S. Coast Guard Marine Safety Office, San Juan, Puerto Rico, (787) 706-2444.

SUPPLEMENTARY INFORMATION:

Regulatory Information

We did not publish a notice of proposed rulemaking (NPRM) for this regulation. Under 5 U.S.C. 553(b)(B), the Coast Guard finds that publishing an NPRM is unnecessary because this rule removes temporary security zones that are no longer needed because the HOVENSA facility has implemented internal security procedures for deciding which crewmembers are permitted to leave their vessels and enter the facility's property. For the same burden-lifting reason, under 5 U.S.C. 553(d)(3), we find good cause exists to make this rule effective less than 30 days after publication in the Federal Register.

Background and Purpose

On September 28, 2001, the first in a series of temporary rules creating security zones around commercial tank and freight vessels moored at the HOVENSA facility in St. Croix, U.S. Virgin Islands was published in the Federal Register (66 FR 49534). The zones created by that first rule were scheduled to terminate October 15, 2001, but they were revived twice—by a temporary rule issued in October 2001 (that was sent to Washington, D.C. for publication in the Federal Register but that was delayed in the mail [CGD07-01-125; 67 FR 9194, 9197, February 28, 2002]), and another issued in January 2002 (67 FR 4911, February 1, 2002).

When it was issued, the current temporary rule that created temporary section 165.T07-002 of Title 33 of the Code of Federal Regulations, was scheduled to expire on June 15, 2002. Temporary section 165.T07-002 requires all persons aboard commercial tank and freight vessels to remain onboard when moored at the HOVENSA facility in St. Croix, U.S. Virgin Islands unless they have permission from the Captain of the Port to transit the security zone around the vessel.

These security zones were needed to prevent subversive acts and to protect the public and the port of HOVENSA. The security zones are no longer needed because HOVENSA has implemented internal security procedures for deciding which persons can depart the vessels moored at their facility. Therefore, the Coast Guard is removing this security zone regulation effective May 9, 2002.

Regulatory Evaluation

This rule is not a “significant regulatory action” under section 3(f) of Executive Order 12866 and does not require an assessment of potential costs and benefits under section 6(a)(3) of that order. The Office of Management and Budget has not reviewed it under that order. It is not significant under the regulatory policies and procedures of the Department of Transportation (DOT) (44 FR 11040; February 26, 1979).

Small Entities

Under the Regulatory Flexibility Act (5 U.S.C. 601-612), we considered whether this proposed rule would have a significant economic impact on a substantial number of small entities. The term “small entities” comprises small businesses, not-for-profit organizations that are independently owned and operated and are not dominant in their fields, and governmental jurisdictions with populations of less than 50,000.

The Coast Guard certifies under 5 U.S.C. 605(b) that this proposed rule would not have a significant economic impact on a substantial number of small entities because this rule removes an obsolete safety zone.

Assistance for Small Entities

Under section 213(a) of the Small Business Regulatory Enforcement Fairness Act of 1996 (Public Law 104-121), we offer to assist small entities in understanding the rule so that they could better evaluate its effects on them and participate in the rulemaking process. Small entities may contact the person listed under FOR FURTHER INFORMATION CONTACT for assistance in understanding and participating in this rulemaking. We also have a point of contact for commenting on actions by employees of the Coast Guard. Small business may send comments on the actions of Federal employees who enforce, or otherwise determine compliance with Federal regulations to the Small Business and Agriculture Regulatory Fairness Boards. The Ombudsman evaluates these actions annually and rates each agency's responsiveness to small business. If you wish to comment on actions by employees of the Coast Guard, call 1-888-REG-FAIR (1-888-734-3247).

Collection of Information

This rule calls for no new collection of information under the Paperwork Reduction Act of 1995 (44 U.S.C. 3501-3520).

Federalism

A rule has implications for federalism under Executive Order 13132, Federalism, if it has a substantial direct effect on State or local governments and would either preempt State law or impose a substantial direct cost of compliance on them. We have analyzed this rule under that Order and have determined that it does not have implications for federalism.

Unfunded Mandates Reform Act

The Unfunded Mandates Reform Act of 1995 (2 U.S.C. 1531-1538) requires Federal agencies to assess the effects of their discretionary regulatory actions. In particular, the Act addresses actions that may result in the expenditure by a State, local, or tribal government, in the aggregate, or by the private sector of $100,000,000 or more in any one year. Though this rule will not result in such an expenditure, we do discuss the effects of this rule elsewhere in this preamble.

Taking of Private Property

This rule will not effect a taking of private property or otherwise have taking implications under Executive Order 12630, Governmental Actions and Interference with Constitutionally Protected Property Rights.

Civil Justice Reform

This rule meets applicable standards in sections 3(a) and 3(b)(2) of Executive Order 12988, Civil Justice Reform, to minimize litigation, eliminate ambiguity, and reduce burden.

Protection of Children

We have analyzed this rule under Executive Order 13045, Protection of Children from Environmental Health Risks and Safety Risks. This rule is not an economically significant rule and does not concern an environmental risk to health or safety that may disproportionately affect children.

Environment

The Coast Guard has considered the environmental impact of this proposed rule and concluded that, under figure 2-1, paragraph 34(g), of Commandant Instruction M16475.lC, this proposed rule is categorically excluded from further environmental documentation.

Indian Tribal Governments

This rule does not have tribal implications under Executive Order 13175, Consultation and Coordination with Indian Tribal Governments, because it does not have a substantial direct effect on one or more Indian tribes, on the relationship between the Federal Government and Indian tribes, or on the distribution of power and responsibilities between the Federal Government and Indian tribes.

Energy Effects

We have analyzed this proposed rule under Executive Order 13211, Actions Concerning Regulations That Significantly Affect Energy Supply, Distribution, or Use. We have determined that it is not a “significant energy action” under that order because it is not a “significant regulatory action” under Executive Order 12866 and is not likely to have a significant adverse effect on the supply, distribution, or use of energy. It has not been designated by the Administrator of the Office of Information and Regulatory Affairs as a significant energy action.

Therefore, it does not require a Statement of Energy Effects under Executive Order 13211.

List of Subjects in 33 CFR Part 165

Harbors, Marine safety, Navigation (water), Reporting and recordkeeping requirements, Security measures, Waterways.

For the reasons discussed in the preamble, the Coast Guard amends 33 CFR part 165 as follows:

PART 165— REGULATED NAVIGATION AREAS AND LIMITED ACCESS AREAS

1. The authority for part 165 continues to read as follows:

Authority: 33 U.S.C. 1231; 50 U.S.C. 191, 33 CFR 1.05-1(g), 6.04-1, 6.04-6, 160.5; 49 CFR 1.46.

§ 165.T07-002 [Removed]

2. Section 165.T07-002 is removed.

Dated: April 18, 2002.
J.A. Servidio,
Commander, U.S. Coast Guard, Captain of the Port.

[FR Doc. 02-11619 Filed 5-8-02; 8:45 am]

BILLING CODE 4910-15-U